DEPARTMENT OF HEALTH AND HUMAN SERVICES

Office of the Secretary

Findings of Scientific Misconduct

AGENCY: Office of the Secretary, HHS.

ACTION: Notice; correction.

SUMMARY: The Office of the Secretary, HHS, published a notice in the Federal Register of January 2, 2003, concerning a finding of scientific misconduct regarding Dr. Ganz. The document contained the incorrect middle initial of Dr. Ganz.

FOR FURTHER INFORMATION CONTACT: Director, Division of Investigative Oversight, Office of Research Integrity, (301) 443-5330.

Correction

In the Federal Register of January 2, 2003, in FR Doc. 02-33079, on page 123, in the third column, first paragraph, correct the name of Michael E. Ganz, M.D. to read: Michael B. Ganz, M.D.

Dated: February 13, 2003.
Chris B. Pascal,
Director, Office of Research Integrity.

[FR Doc. 03-4088 Filed 2-19-03; 8:45 am]

BILLING CODE 4150-31-P